DEPARTMENT OF TRANSPORTATION

Federal Motor Carrier Safety Administration

49 CFR Parts 380, 383, and 384

[Docket No. FMCSA-2007-27748]

RIN 2126-AC25

Extension of Compliance Date for Entry-Level Driver Training

AGENCY: Federal Motor Carrier Safety Administration (FMCSA), Department of Transportation (DOT).

ACTION: Final rule.

SUMMARY: FMCSA finalizes its February 4, 2020 interim final rule (interim rule), which revised a December 8, 2016, final rule, “Minimum Training Requirements for Entry-Level Commercial Motor Vehicle Operators” (ELDT final rule). This action finalizes the extension of the compliance date for the ELDT final rule from February 7, 2020, to February 7, 2022. This action provides FMCSA additional time to complete development of the Training Provider Registry (TPR) and provides State Driver Licensing Agencies (SDLAs) time to modify their information technology (IT) systems and procedures, as necessary, to accommodate their receipt of driver-specific ELDT data from the TPR.

DATES: This final rule is effective on July 30, 2021.

Petitions for Reconsideration of this final rule must be submitted to the FMCSA Administrator no later than July 30, 2021.

FOR FURTHER INFORMATION CONTACT: Mr. Joshua Jones, Commercial Driver's License Division, FMCSA, 1200 New Jersey Avenue SE, Washington, DC 20590-0001, (202) 366-7332, Joshua.Jones@dot.gov. If you have questions on viewing or submitting material to the docket, contact Dockets Operations, (202) 366-9826.

SUPPLEMENTARY INFORMATION: This final rule is organized as follows:

I. Rulemaking Documents

A. Availability of Rulemaking Documents

B. Privacy Act

II. Executive Summary

A. Purpose of the Regulatory Action

B. Summary of Major Provisions

C. Costs and Benefits

III. Abbreviations, Acronyms, and Symbols

IV. Legal Basis

V. Regulatory History

A. 2016 ELDT Final Rule

B. NPRM To Extend Partially the ELDT Compliance Date

C. Interim Final Rule

VI. Discussion of Comments and Changes to the Interim Final Rule

VII. Section-by-Section Analysis

VIII. Regulatory Analyses

A. Executive Order (E.O.) 12866 (Regulatory Planning and Review), E.O. 13563 (Improving Regulation and Regulatory Review), and DOT Regulatory Policies and Procedures

B. Congressional Review Act

C. Regulatory Flexibility Act

D. Assistance for Small Entities

E. Unfunded Mandates Reform Act of 1995

F. Paperwork Reduction Act

G. E.O. 13132 (Federalism)

H. Privacy

I. E.O. 13175 (Indian Tribal Governments)

J. National Environmental Policy Act of 1969

I. Rulemaking Documents

A. Availability of Rulemaking Documents

For access to docket FMCSA-2007-27748 to read background documents and comments received, go to https://www.regulations.gov at any time, or to Dockets Operations at U.S. Department of Transportation, Room W12-140, West Building Ground Floor, 1200 New Jersey Avenue SE, Washington, DC 20590-0001, between 9 a.m. and 5 p.m., Monday through Friday, except Federal holidays. To be sure someone is there to help you, please call (202) 366-9317 or (202) 366-9826 before visiting Dockets Operations.

B. Privacy Act

In accordance with 5 U.S.C. 553(c), DOT solicits comments from the public to better inform its rulemaking process. DOT posts these comments, without edit, including any personal information the commenter provides, to https://www.regulations.gov, as described in the system of records notice “DOT/ALL 14—Federal Docket Management System (FDMS),” which can be reviewed at https://www.transportation.gov/privacy.

II. Executive Summary

A. Purpose of the Regulatory Action

FMCSA finalizes the extension of the compliance date for the ELDT final rule, “Minimum Training Requirements for Entry-Level Commercial Motor Vehicle Operators” (81 FR 88732, Dec. 8, 2016), from February 7, 2020, to February 7, 2022. As noted in the interim final rule, this extension is necessary so that FMCSA can complete the IT infrastructure to support the TPR, which will allow training providers to self-certify, to request listing on the TPR, and to upload the driver-specific ELDT completion information to the TPR. Completion of the TPR technology platform is also necessary before driver-specific ELDT completion information can be transmitted from the TPR to the SDLAs. This delay also provides SDLAs with time to make changes, as necessary, to their IT systems and internal procedures to allow them to receive the driver ELDT completion information transmitted from the TPR.

B. Summary of Major Provisions

This action finalizes the 2-year extension of the interim final rule. The extension applies to all requirements established by the ELDT final rule, including:

1. The date by which training providers must begin uploading driver-specific ELDT certification information to the TPR;

2. The date by which SDLAs must confirm that applicants for a commercial driver's license (CDL) have complied with ELDT requirements prior to taking a specified knowledge or skills test;

3. The date by which training providers wishing to provide ELDT must be listed on the TPR; and

4. The date by which drivers seeking a CDL or endorsement must complete the required training, as set forth in the ELDT final rule.

In addition to finalizing this delay, FMCSA is also making clarifying and conforming changes to the regulations. FMCSA does not make any other substantive changes to the requirements established by the ELDT final rule, or to the length of the delay established in the interim final rule.

C. Costs and Benefits

In the interim rule, the Agency estimated annualized cost savings of $179 million and $196 million at 3 percent and 7 percent discount rates, respectively, over a 4-year period from 2020 through 2023. The full regulatory analyses may be found in the interim rule located in the public docket for this rulemaking (FMCSA-2007-27748-1474). Because the interim rule was effective upon publication, the Agency treats the interim rule as the baseline for this analysis. Therefore, this final rule will not result in any incremental impacts relative to that baseline, as it merely finalizes the 2-year extension of the interim rule.

III. Abbreviations, Acronyms, and Symbols

AAMVA American Association of Motor Vehicle Administrators

ANPRM Advance Notice of Proposed Rulemaking

BTW Behind the Wheel

CDL Commercial Driver's License

CDLIS Commercial Driver's License Information System

CFR Code of Federal Regulations

CMV Commercial Motor Vehicle

CMVSA Commercial Motor Vehicle Safety Act

DOT U.S. Department of Transportation

ELDT Entry-Level Driver Training

E.O. Executive Order

FMCSA Federal Motor Carrier Safety Administration

FMCSRs Federal Motor Carrier Safety Regulations

FR Federal Register

FRFA Final Regulatory Flexibility Analysis

IT Information Technology

NEPA National Environmental Policy Act of 1969

NPRM Notice of Proposed Rulemaking

OMB Office of Management and Budget

PIA Privacy Impact Assessment

PII Personally Identifiable Information

PRA Paperwork Reduction Act

RIA Regulatory Impact Analysis

RIN Regulation Identifier Number

SDLA State Driver Licensing Agency

SORN Systems of Records Notice

§ Section symbol

TPR Training Provider Registry

U.S.C. United States Code

IV. Legal Basis

The legal basis of the ELDT final rule, set forth at 81 FR 88738-88739, also serves as the legal basis for this final rule. A summary of the statutory authorities identified in that discussion follows.

FMCSA's authority to amend the ELDT final rule by extending the compliance date, and making other necessary clarifying and conforming changes, is derived from several concurrent statutory sources. The Motor Carrier Act of 1935, as amended, codified at 49 U.S.C. 31502(b), authorizes the Secretary of Transportation (the Secretary) to prescribe requirements for the safety of motor carrier operations. The rule also relies on the Motor Carrier Safety Act of 1984, as amended, codified at 49 U.S.C. 31136(a)(1) and (2), requiring the Secretary to establish regulations to ensure that CMVs are operated safely, and that responsibilities placed on CMV drivers do not impair their ability to safely operate CMVs. The rule does not address medical standards for drivers or physical effects related to CMV driving (49 U.S.C. 31136(a)(3) and (4)). The Agency does not anticipate that drivers will be coerced as a result of this rule (49 U.S.C. 31136(5)). The Commercial Motor Vehicle Safety Act of 1986 (CMVSA), as amended, codified in 49 U.S.C. chapter 313, established the CDL program and required the Secretary to promulgate implementing regulations, including minimum standards for testing and ensuring the fitness of an individual operating a commercial motor vehicle (49 U.S.C. 31305(a)). The specific statutory provision underlying the ELDT final rule, enacted as part of The Moving Ahead for Progress in the 21st Century Act and codified at 49 U.S.C. 31305(c), required the Secretary to establish minimum entry-level driver training standards for certain individuals required to hold a CDL.

The Administrator of FMCSA is delegated authority under 49 CFR 1.87 to carry out the functions vested in the Secretary by 49 U.S.C. chapters 311, 313, and 315, as they relate to CMV operators, programs, and safety.

V. Regulatory History

A. 2016 ELDT Final Rule

The ELDT final rule established minimum training standards for individuals applying for a Class A or Class B CDL for the first time; individuals upgrading their CDL to a Class B or Class A; and individuals obtaining the following endorsements for the first time: Hazardous materials (H), passenger (P), and school bus (S). The ELDT final rule also defined curriculum standards for theory and behind-the-wheel (BTW) instruction for Class A and B CDLs and the P and S endorsements, and theory instruction requirements for the H endorsement. In addition, the ELDT final rule required that SDLAs verify ELDT completion before allowing the applicant to take a skills test for a Class A or Class B CDL, or a P or S endorsement; or a knowledge test prior to obtaining the H endorsement.

The ELDT final rule also established the TPR, an online database which would allow ELDT providers to electronically register with FMCSA and certify that individual driver-trainees completed the required training. The rule set forth eligibility requirements for training providers to be listed on the TPR, including a certification, under penalty of perjury, that their training programs meet those requirements. The ELDT final rule, when fully implemented, will require training providers to register with the TPR, and thereafter electronically upload driver-specific ELDT information to the TPR, which FMCSA will then verify before transmitting to the SDLA. The process is designed to deliver a finished “product” (i.e., verified driver-specific ELDT information) to the end user, the SDLA, for their review prior to administering the CDL skills test or issuing the CDL credential.

B. NPRM To Extend Partially the ELDT Compliance Date

On July 18, 2019, FMCSA published a notice of proposed rulemaking (NPRM) titled “Partial Extension of Compliance Date for Entry-Level Driver Training” (84 FR 34324). That NPRM proposed delaying, from February 7, 2020, to February 7, 2022, two provisions from the ELDT final rule published on December 8, 2016 (81 FR 88732): The requirement that training providers upload driver-specific training certification information to the TPR, and the requirement that SDLAs confirm driver applicants are in compliance with the ELDT requirements prior to administering a skills test for a Class A or Class B CDL, or a P or S endorsement, or prior to administering the knowledge test to obtain the H endorsement. In the NPRM, FMCSA explained that the proposed delay was necessary to allow both the Agency and SDLAs to complete the requisite IT infrastructure to accommodate the two requirements. The NPRM, which did not propose extending the compliance date for any other ELDT requirement, also proposed several clarifying and conforming changes to the ELDT final rule. FMCSA received 56 comments on the NPRM. No public meeting was requested and none was held.

C. Interim Final Rule

On February 4, 2020, FMCSA published in the Federal Register an interim final rule titled “Extension of Compliance Date for Entry-Level Driver Training” (85 FR 6088). That interim rule extended the compliance date for the ELDT final rule, from February 7, 2020, to February 7, 2022. The 2-year extension applied to all requirements established by the ELDT final rule, including:

1. The date by which training providers must begin uploading driver-specific ELDT certification information to the TPR;

2. The date by which SDLAs must confirm that applicants for a CDL have complied with ELDT requirements prior to taking a specified knowledge or skills test;

3. The date by which training providers wishing to provide ELDT must be listed on the TPR; and

4. The date by which drivers seeking a CDL or endorsement must complete the required training, as set forth in the ELDT final rule.

In the interim rule, FMCSA cited IT development issues largely beyond its control that prevented the Agency from completing the TPR in time for the February 7, 2020, compliance date established by the ELDT final rule. Accordingly, the partial delay proposed in the NPRM was no longer feasible. FMCSA issued the interim rule with an immediate effective date, but provided a 45-day comment period. FMCSA received 20 comments on the interim rule, which are discussed below.

VI. Discussion of Comments and Changes to the Interim Final Rule

As noted above, FMCSA received 20 comments on the interim final rule, with 10 of them coming from individuals raising issues beyond the scope of the rulemaking. The rulemaking focused on one issue: The extension of the compliance date. Comments received about changes to the underlying ELDT rule are beyond the scope of the NPRM and will not be discussed. The remaining comments were from three organizations and seven individuals. The organizations that commented were the Institute for Policy Integrity at the New York University School of Law (IPI), the Commercial Vehicle Training Association (CVTA), and the Oregon Department of Transportation (Oregon).

Comment: The IPI comment focuses on the method FMCSA used to monetize the forgone benefits of its interim rule. According to the IPI, FMCSA undervalued the forgone benefits by using an interim social cost of carbon, instead of using the emission reduction benefits included in the ELDT final rule.

FMCSA Response: This rule accounts for delays in the implementation of the TPR that were not foreseen at the time of the ELDT final rule. The projected disbenefits resulting from the interim rule are not directly comparable to the benefits estimated in the ELDT final rule, as they are to be interpreted relative to a baseline consisting of the ELDT final rule, whereas the benefits presented in the ELDT final rule were relative to a no-action baseline.

A direct comparison of the ELDT final rule's carbon dioxide benefits to the disbenefits of the interim rule is further complicated by the interim rule's use of the interim social cost of carbon values developed under E.O. 13783. The Agency applied these values in lieu of those used in the ELDT final rule because they were the estimates applicable during the development of the interim final rule. FMCSA notes that if those values were recalculated today, yet a different value would result. FMCSA is not presenting revised calculations as this final rule is not changing the compliance date established by the IFR and showing a different cost would not change that date.

Another factor driving the differential is the time frame over which the interim rule is estimated. The Agency did not expect that the cumulative 10-year estimates from the ELDT final rule would be comparable to an interim rule that projects relative impacts resulting from a 2-year delay. Comparing the two annualized estimates may not prove to be informative either, as the ELDT final rule was annualized over 10 years, and this one over 4 (see footnote 2, infra).

Comment: The Commercial Vehicle Training Association (CVTA) made several recommendations for FMCSA to increase communication as the new compliance date nears.

FMCSA Response: These recommendations will be considered by the Agency.

Comment: Oregon welcomed the delay but noted several errors in the regulatory text, found in the headings for subparts E & F of part 380 and in § 384.230.

FMCSA Response: FMCSA corrects these errors, as discussed below in the “Section-by-Section Analysis.”

Comment: One of the individual commenters explicitly supported the extension, and requested that FMCSA publish a compliance guide on or before the new compliance date so businesses have time to understand training requirements fully.

FMCSA Response: While FMCSA was not required to publish small business compliance guides when it published the ELDT final rule (see ELDT final rule, 81 FR 88732, 88787, Dec. 8, 2016), the Agency provided guidance to the public, which can be found at https://www.fmcsa.dot.gov/registration/commercial-drivers-license/eldt. FMCSA plans to provide further guidance as the compliance date approaches.

Comment: A second commenter stated that the compliance date should not be upheld until the States are fully on board and are compliant.

FMCSA Response: FMCSA agrees; the new compliance date should provide States with the time needed to adjust their IT systems to allow them to receive the information that the ELDT final rule requires.

Comment: The five remaining individual commenters expressed disappointment with the delay. One of these commenters questioned why FMCSA doesn't require “paper registration” to allow the rule to come into effect.

FMCSA Response: FMCSA did not consider implementing “paper registration” for either training providers or students, as doing so would have increased the cost of the ELDT final rule, and would require approval from OMB, a process which could require further delay of the compliance date. In addition, the ELDT Advisory Committee strongly advised against using paper records due to concerns about fraud. FMCSA believes the electronic transmission of data is more secure, more efficient, and ensures that the required informational elements will be uniformly understood and reported.

Comment: Another commenter expressing disappointment noted that schools have taken steps to get ready for the ELDT final rule, including determining how to prove the 80 percent proficiency, creating certificates of training, and changing curriculum. This commenter noted that it is imperative to get the ELDT requirements in place to reap the safety benefits as soon as possible.

FMCSA Response: FMCSA agrees that it is important to get the ELDT requirements in place as soon as possible and acknowledges that training providers have been proactive in implementing the ELDT final rule requirements. This activity will be useful when the requirements come into effect in 2022. FMCSA also notes that training schools may voluntarily implement updated ELDT curricula at any time prior to February 7, 2022.

Comment: Two commenters questioned what had changed since 2016, when FMCSA stated that the original 3-year compliance date timeframe would be sufficient for implementation of the ELDT requirements.

FMCSA Response: As noted in the interim rule, FMCSA experienced IT development issues, including changes to DOT internal requirements for cloud-based IT systems, which added time to the development process. This delay also impacts the States, as SDLAs cannot implement necessary IT changes until FMCSA completes its IT specifications.

VII. Section-by-Section Analysis

This final rule affirms the changes made by the interim rule. It also makes non-substantive revisions to correct errors that were discovered after the interim rule published. These affirmed changes and non-substantive revisions are as follows:

FMCSA revises the headings for subparts E and F in part 380, to reflect the change in the compliance date for entry-level drivers to obtain the training set forth in subpart F. This change was inadvertently left out of the interim rule, though it was included as an intended change in the section-by-section analysis of that document. The changes to the headings have no impact, however, as the actual regulatory text included the changed dates. FMCSA affirms the revisions to §§ 380.600 and 380.603. FMCSA also revises the heading for subpart G in part 380, which was erroneously left out of the interim rule. Finally, FMCSA is making a technical correction in § 380.707(a) to add a missing word.

FMCSA affirms the changes in § 383.71, paragraphs (a)(3), (b)(11), and (e)(5), which changed the individual drivers' compliance date from February 7, 2020, to February 7, 2022.

FMCSA also affirms the changes in § 383.73: In paragraphs (b)(11), (e)(9), and (p), the interim rule changed the States' compliance date from February 7, 2020, to February 7, 2022; and in paragraphs (b)(3) introductory text, (b)(3)(ii), and (e)(9), FMCSA made clarifying changes.

Finally, the Agency affirms the change to the States' compliance date in §§ 384.230 and 384.301, from February 7, 2020, to February 7, 2022. FMCSA is also making changes to cross references in § 384.230, to account for the changes made in § 383.73.

VIII. Regulatory Analyses

A. Executive Order (E.O.) 12866 (Regulatory Planning and Review), E.O. 13563 (Improving Regulation and Regulatory Review), and DOT Regulatory Policies and Procedures

This final rule is not a significant regulatory action under section 3(f) of E.O. 12866, Regulatory Planning and Review, as supplemented by E.O. 13563 (76 FR 3821, January 21, 2011), and is also not significant within the meaning of DOT regulations (49 CFR 5.13(a)) and does not require an assessment of potential costs and benefits under E.O. 12866. Accordingly, OMB has not reviewed it under that order.

Because the interim rule was effective upon publication, the Agency treats the interim rule as the baseline for this analysis. Therefore, this final rule will not result in any incremental impacts relative to that baseline, as it merely finalizes the 2-year extension of the interim rule.¹

¹ The full regulatory analyses may be found in the interim rule located in the public docket for this rulemaking (FMCSA-2007-27748-1474).

B. Congressional Review Act

This rule is not a major rule as defined under the Congressional Review Act (5 U.S.C. 801, et seq.).²

² A “major rule” means any rule that the Administrator of the Office of Information and Regulatory Affairs at OMB finds has resulted in or is likely to result in (a) an annual effect on the economy of $100 million or more; (b) a major increase in costs or prices for consumers, individual industries, Federal agencies, State agencies, local government agencies, or geographic regions; or (c) significant adverse effects on competition, employment, investment, productivity, innovation, or on the ability of United States-based enterprises to compete with foreign-based enterprises in domestic and export markets (5 U.S.C. 804(2)).

C. Regulatory Flexibility Act

The Regulatory Flexibility Act (RFA) of 1980 (5 U.S.C. 601 et seq.), as amended by the Small Business Regulatory Enforcement Fairness Act of 1996 (Pub. L. 104-121, 110 Stat. 857 (Mar. 29, 1996), note following 5 U.S.C. 601), requires Federal agencies to consider the effects of the regulatory action on small entities, analyze effective alternatives that minimize small entity impacts, and make their analyses available for public comment. The term “small entities” comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

FMCSA is not required to complete a regulatory flexibility analysis because the interim rule was not subject to notice and comment under section 553(b) of the Administrative Procedure Act (5 U.S.C. 553(b)).

D. Assistance for Small Entities

In accordance with section 213(a) of the Small Business Regulatory Enforcement Fairness Act of 1996, FMCSA wants to assist small entities in understanding this final rule so that they can better evaluate its effects on themselves and participate in the rulemaking initiative. If the final rule will affect your small business, organization, or governmental jurisdiction and you have questions concerning its provisions or options for compliance, please consult the FMCSA point of contact listed in the FOR FURTHER INFORMATION CONTACT section of this final rule.

Small businesses may send comments on the actions of Federal employees who enforce or otherwise determine compliance with Federal regulations to the Small Business Administration's Small Business and Agriculture Regulatory Enforcement Ombudsman and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

E. Unfunded Mandates Reform Act of 1995

The Unfunded Mandates Reform Act of 1995 (2 U.S.C. 1531-1538) requires Federal agencies to assess the effects of their discretionary regulatory actions. In particular, the Act addresses actions that may result in the expenditure by a State, local, or Tribal government, in the aggregate, or by the private sector of $168 million (which is the value equivalent of $100,000,000 in 1995, adjusted for inflation to 2019 levels) or more in any one year. Though this final rule will not result in such an expenditure, the Agency does discuss the effects of this rule in section IX, subsections A. and B., above.

F. Paperwork Reduction Act

This rule calls for an information collection under the Paperwork Reduction Act of 1995 (44 U.S.C. 3501-3520) (PRA). As defined in 5 CFR 1320.3(c), “collection of information” comprises reporting, recordkeeping, monitoring, posting, labeling, and other, similar actions. The 2016 ELDT final rule discussed the changes to the approved collection of information, but did not revise the supporting statement for that collection at that time, because the changes from the final rule would not take effect until after the expiration date of that approved collection (see PRA discussion at 81 FR 88732, 88788). This collection was revised as part of its renewal cycle, and as required by the PRA (44 U.S.C. 3507(d)), and FMCSA submitted its estimate of the burden of the proposal contained in this final rule to OMB for its review of the collection of information renewal. FMCSA published the 60-day notice in the Federal Register on July 3, 2019 (84 FR 31982). FMCSA published the 30-day notice in the Federal Register on April 7, 2020 (85 FR 19570), reflecting the changes made by the interim rule. OMB approved the collection on June 26, 2020 under OMB Control Number 2126-0028, which expires on June 30, 2023.

The information collection may be viewed at www.reginfo.gov/public/do/PRAMain. Find this information collection by entering OMB control number 2126-0028 in the search bar and clicking on the last entry.

G. E.O. 13132 (Federalism)

A rule has implications for federalism under Section 1(a) of E.O. 13132 if it has “substantial direct effects on the States, on the relationship between the national government and the States, or on the distribution of power and responsibilities among the various levels of government.” FMCSA determined that this rule would not have substantial direct costs on or for States, nor would it limit the policymaking discretion of States. Nothing in this document preempts any State law or regulation. Therefore, this rule does not have sufficient federalism implications to warrant the preparation of a Federalism Impact Statement.

H. Privacy

Section 522 of title I of division H of the Consolidated Appropriations Act, 2005, (Pub. L. 108-447, 118 Stat. 2809, 3268, (Dec. 8, 2004), note following 5 U.S.C. 552a), requires the Agency to conduct a privacy impact assessment of a regulation that will affect the privacy of individuals. The assessment considers impacts of the rule on the privacy of information in an identifiable form and related matters. The FMCSA Privacy Officer has evaluated the risks and effects the rulemaking might have on collecting, storing, and sharing personally identifiable information and has evaluated protections and alternative information handling processes in developing the rule to mitigate potential privacy risks. FMCSA determined that this rule does not change the collection of personally identifiable information (PII) as set forth in the 2016 ELDT final rule. The supporting Privacy Impact Analysis, available for review on the DOT website, http://www.transportation.gov/privacy, gives a full and complete explanation of FMCSA practices for protecting PII in general and specifically in relation to the ELDT final rule, which would also apply to this final rule.

As required by the Privacy Act (5 U.S.C. 552a), FMCSA and DOT will publish, with request for comment, a system of records notice (SORN) that will describe FMCSA's maintenance and electronic transmission of information affected by the requirements of the ELDT final rule that are covered by the Privacy Act. This SORN will be published in the Federal Register not less than 30 days before the Agency is authorized to collect or use PII retrieved by unique identifier.

I. E.O. 13175 (Indian Tribal Governments)

This rule does not have Tribal implications under E.O. 13175, “Consultation and Coordination with Indian Tribal Governments,” because it does not have a substantial direct effect on one or more Indian Tribes, on the relationship between the Federal Government and Indian Tribes, or on the distribution of power and responsibilities between the Federal Government and Indian Tribes.

J. National Environmental Policy Act of 1969

The National Environmental Policy Act of 1969 (NEPA) (42 U.S.C. 4321 et seq.) requires Federal agencies to integrate environmental values into their decision-making processes by considering the potential environmental impacts of their actions. In accordance with NEPA, FMCSA's NEPA Order 5610.1 (NEPA Implementing Procedures and Policy for Considering Environmental Impacts), and other applicable requirements, FMCSA prepared an Environmental Assessment (EA) to review the potential impacts of the ELDT final rule. That EA is available for inspection or copying in the Regulations.gov website listed under ADDRESSES.

Because this rule only finalizes the interim rule's delay of the compliance date of the ELDT final rule without any other substantive change to the regulations, FMCSA continues to rely upon the previously published 2016 EA to support this final rule. As noted in that EA, implementation of the ELDT final rule imposed new training standards for certain individuals applying for their CDL, an upgrade of their CDL, or hazardous materials, passenger, or school bus endorsement for their license. FMCSA found that noise, endangered species, cultural resources protected under the National Historic Preservation Act, wetlands, and resources protected under Section 4(f) of the Department of Transportation Act of 1966, 49 U.S.C. 303, as amended by Public Law 109-59, would not be impacted. The impact areas that may be affected and were evaluated in the 2016 EA included air quality, hazardous materials transportation, solid waste, and public safety. Specifically, as outlined in the ELDT final rule RIA, FMCSA anticipated that an increase in driver training would result in improved fuel economy based on changes to driver behavior, such as smoother acceleration and braking practices. Such improved fuel economy is anticipated to result in lower air emissions and improved air quality for gases, including carbon dioxide. For the interim rule, FMCSA estimated the forgone environmental benefits for years 2020 through 2023. As mentioned above, the interim rule temporally shifted the benefits of the 2016 final rule by two years but otherwise retains the overall environmental impacts of the 2016 final rule. This final rule makes no changes that will impact the discussion from the interim rule.

List of Subjects

49 CFR Part 380

Administrative practice and procedure, Highway safety, Motor carriers, Reporting and recordkeeping requirements.

49 CFR Part 383

Administrative practice and procedure, Alcohol abuse, Drug abuse, Highway safety, Motor carriers.

49 CFR Part 384

Administrative practice and procedure, Alcohol abuse, Drug abuse, Highway safety, Motor carriers.

For the reasons set forth in the preamble, FMCSA adopts as final, the interim final rule amending 49 CFR parts 380, 383, and 384, published February 4, 2020, at 85 FR 6088, with the following changes:

PART 380—SPECIAL TRAINING REQUIREMENTS

1. The authority citation for part 380 continues to read as follows:

Authority: 49 U.S.C. 31133, 31136, 31305, 31307, 31308, and 31502; sec. 4007(a) and (b) of Pub. L. 102-240 (105 Stat. 2151-2152); sec. 32304 of Pub. L. 112-141; and 49 CFR 1.87.

2. Revise the heading for subpart E to read as follows:

Subpart E—Entry-Level Driver Training Requirements Before February 7, 2022

3. Revise the heading for subpart F to read as follows:

Subpart F—Entry-Level Driver Training Requirements On and After February 7, 2022

4. Revise the heading for subpart G to read as follows:

Subpart G—Registry of Entry-Level Driver Training Providers On and After February 7, 2022

§ 380.707 [Amended]

5. In § 380.707, amend the first sentence of paragraph (a) by adding the word “with” after the words “certify that they will comply”.

PART 384—STATE COMPLIANCE WITH COMMERCIAL DRIVER'S LICENSE PROGRAM

6. The authority citation for part 380 continues to read as follows:

Authority: 49 U.S.C. 31136, 31301 et seq., and 31502; secs. 103 and 215 of Pub. L. 106-59, 113 Stat. 1753, 1767; sec. 32934 of Pub. L. 112-141, 126 Stat. 405, 830; sec. 5401 and 7208 of Pub. L. 114-94, 129 Stat. 1312, 1546, 1593; and 49 CFR 1.87.

7. In § 384.230, revise paragraph (a) to read as follows:

§ 384.230 Entry-level driver certification.

(a) Beginning on February 7, 2022, a State must comply with the requirements of § 383.73(b)(11) and (e)(9) of this subchapter to verify that the applicant completed the training prescribed in subpart F of part 380 of this subchapter.

* * * * *

Issued under the authority of delegation in 49 CFR 1.87.
Meera Joshi,
Deputy Administrator.

[FR Doc. 2021-13893 Filed 6-29-21; 8:45 am]

BILLING CODE 4910-EX-P